GENERAL SERVICES ADMINISTRATION

[OMB Control No. 3090-00XX]

Information Collection Standard Form, Tangible Personal Property Report (SF-XXXX)

AGENCY: Office of Governmentwide Policy, General Services Administration (GSA).

ACTION: Notice of request for comments regarding a new information collection.

SUMMARY: Under the provisions of the Paperwork Reduction Act of 1995 (44 U.S.C. Chapter 35), the GSA, Office of Governmentwide Policy will submit to the Office of Management and Budget (OMB) a request to review and approve a new information collection requirement concerning reporting tangible personal property.

In support of OMB's continuing effort to reduce paperwork and respondent burden, GSA invites the general public and other Federal agencies to take this opportunity to comment on a proposed new information collection. In accordance with the Paperwork Reduction Act of 1995, this notice seeks comments concerning forms that will be used to collect information related to tangible personal property when required by a Federal financial assistance award. To view the form, go to OMB's main Web page at http://www.OMB.gov and click on the “Grants Management” and “Forms” links. OMB specifically requests comments on: (a) Whether the proposed collection of information is necessary for the proper performance of the functions of the agency, including whether the information shall have practical utility; (b) the accuracy of the estimate of the burden of the proposed collection of information; (c) the quality, utility, and clarity of the information to be collected; and (d) ways to minimize the burden of the collection of information on respondents, including through the use of automated collection techniques or other forms of information technology.

DATES: Comment Due Date: January 15, 2008.

FOR FURTHER INFORMATION CONTACT: Michael Nelson, Chair, Post-Award Workgroup; telephone 202-482-4538; fax 301-713-0806; e-mail Michael.Nelson@noaa.gov; mailing address 1305 East-West Highway, Room 7142, Silver Spring, MD 20910.

ADDRESSES: Submit comments regarding this burden estimate or any other aspect of this collection of information, including suggestions for reducing this burden, to the Regulatory Secretariat (VIR), General Services Administration, Room 4035, 1800 F Street, NW., Washington, DC 20405. Please cite OMB Control No. 3090-00XX, Tangible Personal Property Report, in all correspondence.

SUPPLEMENTARY INFORMATION:

A. Purpose

GSA, on behalf of the Federal Grants Streamlining Initiative, proposes to issue a new standard form, the Tangible Personal Property Report (SF-XXXX). The SF-XXXX includes a cover page, an Annual Report attachment, a Final Report attachment, a Disposition/Request Report attachment and a Supplemental Sheet to provide detailed item information. The purpose of this new form is to provide a standard form for assistance recipients to use when they are required to provide a Federal agency with information related to federally owned property, or equipment and supplies (tangible personal property) acquired with assistance award funds. The form does not create any new reporting requirements. It does establish a standard annual reporting date of September 30 to be used if an award does not specify an annual reporting date. The standard form will replace any agency unique forms currently in use to allow uniformity of collection and to support future electronic submission of information.

Background

Public Law 106-107 requires OMB to direct, coordinate, and assist Executive Branch departments and agencies in establishing an interagency process to streamline and simplify Federal financial assistance procedures for non-Federal entities. The law also requires executive agencies to develop, submit to Congress, and implement a plan for that streamlining and simplification. Twenty-six Executive Branch agencies jointly submitted a plan to the Congress in May 2001. The plan described the interagency process through which the agencies would review current policies and practices and seek to streamline and simplify them. The process involved interagency work groups under the auspices of the U.S. Chief Financial Officers Council, Grants Policy Committee. The plan also identified substantive areas in which the interagency work groups had begun their review. Those areas are part of the Federal Grants Streamlining Initiative.

This proposed form is an undertaking of the interagency Post-Award Workgroup that supports the Federal Grants Streamlining Initiative. Additional information on the Federal Grants Streamlining Initiative, which focuses on implementing the Federal Financial Assistance Management Improvement Act of 1999 (Pub. L. 106-107), is set forth in the Federal Register published on September 13, 2006 (71 FR 54098). An overview of the SF-XXXX and five other report forms being developed under the Initiative was provided during a webcast of the Grants Policy Committee of the U.S. Chief Financial Officers Council held on March 8, 2007 (72 FR 7090, February 14, 2007).

Under the standards for management and disposition of federally-owned property, equipment and supplies (tangible personal property) in 2 CFR part 215, the “Uniform Administrative Requirements for Grants and Agreements With Institutions of Higher Education, Hospitals, and Other Non-Profit Organizations,” and the “Uniform Administrative Requirements for Grants and Agreements with State and Local Governments,” codified by Federal agencies at 53 FR 8048, March 11, 1988, recipients may be required to provide Federal agencies with information concerning property in their custody annually, at award closeout or when the property is no longer needed. During the public consultation process mandated by Public Law 106-107, recipients suggested the need for clarification of these requirements and the establishment of a standard form to help them submit appropriate property information when required. The Tangible Personal Property Report (SF-XXXX) must be used in connection with requirements listed in the table below and Federal awarding agency guidelines:

For . . . | A recipient must . . . | When . . . | Under . . .
Federally owned property | Submit an inventory listing | Annually, with information accurate as of 30 September, unless the award specifies a different date | 2 CFR 215.33(a)(1); A-102, __.32(f)(2).
| Request Federal agency authorization | It wants to use the property on other activities not sponsored by the Federal Government | 2 CFR 215.34(d).
| Notify the Federal awarding agency | Immediately upon finding property is lost, damaged, or stolen | 2 CFR 215.33(f)(4).
| Request disposition instructions | The property is no longer needed | 2 CFR 215.33(a)(1); A-102, __.32(f)(3).
|  | Upon completion of the award | 2 CFR 215.33(a)(1) and 2 CFR 215.71(f); A-102, __.50(b)(5).
Grantee-acquired equipment in which the Federal Government retains an interest | Obtain the approval of the Federal awarding agency | Acquiring replacement equipment, before: (1) Using the current equipment as trade-in; or (2) selling it and using the proceeds to offset the costs of the replacement equipment | 2 CFR 215.34(e); A-102, __.32(c)(4).
| Compensate the original Federal awarding agency or its successor | Equipment has a per unit fair market value of greater than $5,000 and the grantee no longer needs the equipment for Federally supported activities and retains the equipment for other uses | 2 CFR 215.34(g); A-102, __.32(e)(2).
| Request disposition instructions | It no longer needs the equipment for any purpose | 2 CFR 215.34(g).
| Sell the equipment and reimburse the Federal awarding agency for the Federal share | Equipment has a per unit fair market value of greater than $5,000 and the recipient no longer needs the equipment for any purpose and requested disposition instructions, and either was instructed to sell the equipment or received no instructions within 120 days | 2 CFR 215.34(g)(1); A-102, __.32(e)(2).
| Account for the equipment | Upon completion of the award, when the awarding agency has reserved the right to transfer title to the Federal Government or a third party | 2 CFR 215.71(f) and 2 CFR 215.34(g)(4)(ii).
Supplies | Compensate the Federal Government for its share | It has a residual inventory of unused supplies exceeding $5,000 in aggregate value at the end of a project or program that is not needed for other Federally supported activities | 2 CFR 215.35(a); A-102, __.33(b).

B. Annual Reporting Burden

This report will be used to collect information related to tangible personal property (equipment and supplies) when required by a Federal financial assistance award. Since this form will primarily be used for reporting under grants, and GSA does not award grants, we are providing a burden estimate for one respondent.

Respondents: Federal agencies and their assistance recipients.

Estimated Total Annual Burden Hours: 2.75.

Estimated Cost: There is no expected cost to the respondents or to GSA.

Instrument | Number of respondents | Number of responses per respondent | Average burden hours per response | Total burden hours
Tangible Personal Property Report (SF-XXXX) | 1 | 1 | 0.166666667 | 0.166666667
Annual Report: Attachment to SF-XXXX | 1 | 1 | 0.75 | 0.75
Final Report: Attachment to SF-XXXX | 1 | 1 | 0.75 | 0.75
Disposition Request/report: Attachment to SF-XXXX | 1 | 1 | 0.75 | 0.75
Tangible Personal Property Report Supplemental Sheet (SF-XXXX-S) | 1 | 1 | 0.333333333 | 0.333333333
Total |  |  |  | 2.75

Obtaining Copies of Proposals: Requesters may obtain a copy of the information collection documents from the General Services Administration, Regulatory Secretariat (VIR), 1800 F Street, NW., Room 4035, Washington, DC 20405, telephone (202) 501-4755, or by faxing your request to (202) 501-4067. Please cite OMB Control No. 3090-00XX, Tangible Personal Property Report, in all correspondence.

Dated: November 9, 2007.
Casey Coleman,
Chief Information Officer.

[FR Doc. 07-5735 Filed 11-15-07; 8:45 am]

BILLING CODE 6820-RH-P